DEPARTMENT OF HOMELAND SECURITY

Coast Guard

33 CFR Part 117

[Docket No. USCG-2017-1048]

Drawbridge Operation Regulation; Merrimack River, Newburyport, MA

AGENCY: Coast Guard, DHS.

ACTION: Notice of deviation from drawbridge regulation.

SUMMARY: The Coast Guard has issued a temporary deviation from the operating schedule that governs the US1 Bridge across the Merrimack River, mile 3.4, at Newburyport, MA. The deviation is necessary to replace the electrical power and control systems which are at the end of their life cycle. This deviation allows the bridge to be closed to navigation.

DATES: This deviation is effective from 12:01 a.m. on January 2, 2018 through 11:59 p.m. on April 15, 2018.

ADDRESSES: The docket for this deviation, USCG-2017-1048 is available at http://www.regulations.gov. Type the docket number in the “SEARCH” box and click “SEARCH”. Click on Open Docket Folder on the line associated with this deviation.

FOR FURTHER INFORMATION CONTACT: If you have questions on this temporary deviation, call or email Mr. Jeffrey Stieb, First Coast Guard District Bridge Branch, Coast Guard; telephone 617-223-8364, email Jeffrey.D.Stieb@uscg.mil.

SUPPLEMENTARY INFORMATION: The owner of the bridge, the Massachusetts Department of Transportation, requested a temporary deviation. The existing electrical power and control system malfunctions and is at the end of its expected life. The US1 Bridge across the Merrimac River, mile 3.4, at Newburyport, Massachusetts, has a vertical clearance in the closed position of 35 feet at mean high water. The existing bridge operating regulations are found at 33 CFR 117.605.

This temporary deviation allows the bridge to remain in the closed to navigation position from 12:01 a.m. on January 2, 2018 through 11:59 p.m. on April 15, 2018. The deviation will have negligible effect on vessel navigation. The waterway is transited primarily by seasonal recreational vessels of various sizes. During this time period, no requests for an opening were made in 2016 and only one request was made in 2017.

Vessels that can pass through the bridge in the closed position may do so at anytime. The bridge will not be able to open for emergencies; however, Coast Guard and harbormaster vessels are able to pass through the bridge in the closed position. The Newburyport and Salisbury harbormasters support the repair work being conducted in the winter season rather than the recreational boating season. The Massachusetts Department of Transportation has notified local yacht yards and marinas and will release a media advisory. No objections to the proposed deviation have been received. The Coast Guard will inform waterway users of the closure through our Local and Broadcast Notices to Mariners.

In accordance with 33 CFR 117.35(e), the drawbridge must return to its regular operating schedule immediately at the end of the effective period of this temporary deviation. This deviation from the operating regulations is authorized under 33 CFR 117.35.

Dated: December 8, 2017.
Christopher J. Bisignano,
Supervisory Bridge Management Specialist, First Coast Guard District.

[FR Doc. 2017-27642 Filed 12-21-17; 8:45 am]

BILLING CODE 9110-04-P